FEDERAL MARITIME COMMISSION

Sunshine Act Meeting

TIME AND DATE: September 22, 2010-2 p.m.

PLACE: 800 North Capitol Street, NW., First Floor Hearing Room, Washington, DC.

STATUS: Part of the meeting will be in Open Session and the remainder of the meeting will be in Closed Session.

Matters To Be Considered

Open Session

1. Staff Update on Study of European Union Block Exemption Repeal.

2. Staff Briefing Regarding Passenger Vessel Financial Responsibility Notice of Inquiry Information Collection.

Closed Session

1. Staff Briefing on Financial Responsibility of Cruise West.

2. Staff Briefing on Economic Conditions and Impact on Stakeholder.

3. Staff Briefing Regarding Shanghai Shipping Exchange and China Ministry of Transport Regulations.

4. Fact Finding No. 27: Complaints or Inquiries from Individual Shippers of Household Goods or Private Automobiles—Status Report.

CONTACT PERSON FOR MORE INFORMATION: Karen V. Gregory, Secretary, (202) 523-5725.

Karen V. Gregory,
Secretary.

[FR Doc. 2010-23435 Filed 9-15-10; 4:15 pm]

BILLING CODE 6730-01-P